DEPARTMENT OF DEFENSE

Department of the Army

Army Science Board Request for Information on Robotic and Autonomous Systems-of-Systems Technology Initiatives; Extension of Comment Period

AGENCY: Department of the Army, DoD.

ACTION: Notice; extension of comment period.

SUMMARY: The comment period for the Army Science Board Request for Information on Robotic and Autonomous Systems-of-Systems (RAS) Technology Initiatives notice published in the Federal Register on Monday, May 16, 2016 (81 FR 30264), required comment packages be submitted by Friday, May 27, 2016. The comment period has been extended to Tuesday, June 14, 2016.

FOR FURTHER INFORMATION CONTACT: LTC Stephen K. Barker at stephen.k.barker.mil@mail.mil.

SUPPLEMENTARY INFORMATION: None.

Brenda S. Bowen,
Army Federal Register Liaison Officer.

[FR Doc. 2016-12285 Filed 5-24-16; 8:45 am]

BILLING CODE 5001-03-P